DEPARTMENT OF HOMELAND SECURITY

Coast Guard

[USCG-2006-24444]

Navigation Safety Advisory Council

AGENCY: Coast Guard, DHS.

ACTION: Notice of meetings.

SUMMARY: The Navigation Safety Advisory Council (NAVSAC) will meet as required to discuss various issues relating to the safety of navigation. The meeting will be open to the public.

DATES: NAVSAC will meet on Tuesday, May 9, 2006, from 8:30 a.m. to 4 p.m.; Wednesday, May 10, 2006, from 8:30 a.m. to 4 p.m.; and Thursday, May 11, 2006, from 8:30 a.m. to 1 p.m. The meetings may close early if all business is finished. Written material for and requests to make oral presentations at the meeting should reach the Coast Guard on or before April 28, 2006. Requests to have a copy of your material distributed to each member of the Committee or working groups prior to the meeting should reach the Coast Guard on or before April 28, 2006.

ADDRESSES: NAVSAC will meet in the Hyatt Regency Newport Beach Hotel, 1107 Jamboree Rd., Newport Beach, CA 92660. Send written material and requests to make oral presentations to Mr. John Bobb, Commandant (G-PWM-1), U.S. Coast Guard Headquarters, G-MW, Room 1406, 2100 Second Street, SW., Washington, DC 20593-0001. This notice and related documents are available on the Internet at http://dms.dot.gov.

FOR FURTHER INFORMATION CONTACT: Mr. John Bobb, Executive Secretary, telephone 202-267-2384, fax 202-267-4700, or e-mail at: jbobb@comdt.uscg.mil.

SUPPLEMENTARY INFORMATION: Notice of these meetings is given under the Federal Advisory Committee Act, 5 U.S.C. App. 2 (Pub. L. 92-463, 86 Stat. 770, as amended).

Agenda of Committee Meeting

The agenda includes the following items to be discussed:

(1) Standard Navigational Bridge Design.

(2) Transfer radar Plotting for renewal of RDR Endorsements.

(3) Offshore Energy Applications (Regulated Navigation Areas and Security Zones).

(4) Right Whale Proposed Regulation Update.

(5) Navigation Bridge Visibility Update.

(6) Report on Automatic Identification Systems.

(7) Report on developments in Electronic Navigation Systems.

Procedural

All meetings are open to the public. Please note that the meetings may close early if all business is finished. At the chair's discretion, members of the public may make oral presentations during the meetings. If you would like to make an oral presentation at the meeting, please notify the Executive Secretary no later than April 28, 2006. Written material for distribution at a meeting should reach the Coast Guard no later than April 28, 2006. If you would like a copy of your material distributed to each member of the Committee or Working Groups in advance of a meeting, please submit 20 copies to the Executive Secretary no later than April 28, 2006. You may also submit this material electronically to the e-mail address in FOR FURTHER INFORMATION CONTACT, no later than April 28, 2006.

Information on Services for Individuals With Disabilities

For information on facilities or services for individuals with disabilities or to request special assistance at the meetings, contact the Executive Secretary as soon as possible.

Dated: April 10, 2006.
Dennis J. Holland,
Captain, U.S. Coast Guard, Acting Director of Waterways Management.

[FR Doc. E6-6136 Filed 4-24-06; 8:45 am]

BILLING CODE 4910-15-P